DEPARTMENT OF THE INTERIOR

Fish and Wildlife Service

[FWS-R8-ES-2019-N130; FXES11140800000-201-FF08EVEN00]

Habitat Conservation Plans for the Mount Hermon June Beetle, Zayante Band-Winged Grasshopper, and Ben Lomond Spineflower; Categorical Exclusion for the Renovation of the Santa Cruz County Juvenile Hall and the Verizon Wireless Expansion Project; Santa Cruz County, California

AGENCY: Fish and Wildlife Service, Interior.

ACTION: Notice of availability; request for comments.

SUMMARY: We, the U.S. Fish and Wildlife Service (Service), have received two applications for an incidental take permit (ITP), one for the federally endangered Mount Hermon June beetle and one for the federally endangered Mount Hermon June beetle and Zayante band-winged grasshopper, under the Endangered Species Act of 1973, as amended. The County of Santa Cruz submitted a permit application that, if issued, would authorize take of the Mount Hermon June beetle incidental to otherwise lawful activities described in the draft habitat conservation plan for renovation of the County of Santa Cruz Juvenile Hall. Verizon Wireless submitted a permit application that, if issued, would authorize take of the Mount Hermon June beetle and Zayante band-winged grasshopper incidental to otherwise lawful activities described in the Verizon Wireless telecommunications facility expansion project draft habitat conservation plan. We invite public comment on these documents.

DATES: Written comments should be received on or before February 26, 2020.

ADDRESSES:

To obtain documents: You may download a copy of the draft habitat conservation plan and categorical exclusion screening form, which includes the environmental action statement, at http://www.fws.gov/ventura/, or you may request copies of the documents by U.S. mail (below) or by phone (see FOR FURTHER INFORMATION CONTACT).

To submit written comments: Please send us your written comments using one of the following methods:

• U.S. mail: Stephen P. Henry, Field Supervisor, Ventura Fish and Wildlife Office, U.S. Fish and Wildlife Service, 2493 Portola Road, Suite B, Ventura, CA 93003.

• Facsimile: 805-644-3958.

• Electronic mail: chad_mitcham@fws.gov.

FOR FURTHER INFORMATION CONTACT: Chad Mitcham, Fish and Wildlife Biologist, 805-677-3328 (by phone), or at the Ventura Fish and Wildlife office (by mail; see ADDRESSES).

SUPPLEMENTARY INFORMATION: We have received two applications for ITPs under the Endangered Species Act of 1973, as amended (ESA; 16 U.S.C. 1531 et seq.). In support of their applications for ITPs, the applicants have developed draft habitat conservation plans (HCPs) for their respective projects that include measures to mitigate and avoid/minimize impacts to the federally endangered Mount Hermon June beetle (Polyphylla barbata), Zayante band-winged grasshopper (Trimerotropis infantilis), and Ben Lomond spineflower (Chorizanthe pungens var. hartwegiana). The ITPs would authorize take of the Mount Hermon June beetle and Zayante band-winged grasshopper incidental to otherwise lawful activities. These ITPs would authorize incidental take associated with the two respective projects: The draft Low-Effect HCP for the Renovation of the County of Santa Cruz Juvenile Hall and the draft Low-Effect HCP for the Verizon Wireless Telecommunications Facility Expansion Project. We invite public comment on the draft HCPs and categorical screening forms, which include the environmental action statements.

Background

The Service listed the Mount Hermon June beetle and Zayante band-winged grasshopper as endangered on January 24, 1997 (62 FR 3616). Section 9 of the ESA (16 U.S.C. 1538) prohibits the “take” of fish or wildlife species listed as endangered. “Take” is defined under the ESA to include the following activities: “[T]o harass, harm, pursue, hunt, shoot, wound, kill, trap, capture, or collect, or to attempt to engage in any such conduct” (16 U.S.C. 1532); however, under section 10(a)(1)(B) of the ESA (16 U.S.C. 1539(a)(1)(B)), we may issue permits to authorize incidental take of listed wildlife species. Incidental take is take that is incidental to, and not the purpose of, carrying out of an otherwise lawful activity. Regulations governing ITPs for endangered wildlife are in the Code of Federal Regulations (CFR) at 50 CFR 17.22.

Take of listed plants is not prohibited under the ESA unless the action would violate State law. As such, take of plants cannot be authorized under an ITP. Plant species may be included on a permit in recognition of the conservation benefits provided them under an HCP. All species, including plants, covered by the ITP receive assurances under our “No Surprises” regulations (50 CFR 17.22(b)(5)). Issuance of an ITP also must not jeopardize the existence of federally listed fish, wildlife, or plant species.

Proposed Project Activities

Santa Cruz County has applied for a permit for incidental take of the Mount Hermon June beetle. The take would occur in association with renovation and upgrades of facilities and infrastructure at the County of Santa Cruz Juvenile Hall. Project activities would occur within a 0.427-acre (ac) area, within which 0.270 ac is suitable habitat for the Mount Hermon June beetle. The HCP includes avoidance and minimization measures for the Mount Hermon June beetle and mitigation for unavoidable loss of suitable habitat through the restoration of suitable habitat adjacent to the project site or the purchase of conservation credits at a Service-approved conservation bank.

Verizon Wireless has applied for a permit for incidental take of the Mount Hermon June beetle and Zayante band-winged grasshopper. The take would occur in association with the expansion of an existing wireless telecommunications facility. The site includes approximately 0.020 ac of suitable habitat for the Mount Hermon June beetle and Zayante band-winged grasshopper. The Service has designated the entire project site as critical habitat for the Zayante band-winged grasshopper. The HCP includes avoidance and minimization measures for the covered species and mitigation for unavoidable loss of suitable habitat through the purchase of conservation credits at a Service-approved conservation bank.

Preliminary Determinations

The Service has made preliminary determinations that issuance of these incidental take permits is neither a major Federal action that will significantly affect the quality of the human environment within the meaning of section 102(2)(C) of the National Environmental Policy Act (NEPA; 42 U.S.C. 4321 et seq.), nor will they individually or cumulatively have more than a negligible effect on the species covered in the HCPs. The Service considers the impacts of the renovation of the Santa Cruz County Juvenile Hall on the Mount Hermon June beetle to be minor, as the affected area is small (approximately 0.270 ac) and the project includes the restoration of suitable habitat or purchase of high-quality habitat at a Service-approved conservation bank. The Service considers the impacts of the Verizon Wireless Expansion Project on the Mount Hermon June beetle and Zayante band-winged grasshopper to be minor, as the affected area is small (approximately 0.020 ac) and the project includes the purchase of high-quality habitat at a Service-approved conservation bank. Therefore, based on this preliminary determination, both permits qualify for a categorical exclusion under NEPA.

Public Comments

If you wish to comment on the draft HCPs and categorical screening forms, you may submit comments by one of the methods in ADDRESSES.

Before including your address, phone number, email address, or other personal identifying information in your comment, you should be aware that your entire comment, including your personal identifying information, may be made publicly available at any time. While you can ask us in your comment to withhold your personal identifying information from public view, we cannot guarantee that we will be able to do so.

Authority

We provide this notice under section 10 of the ESA (16 U.S.C. 1531 et seq.) and NEPA regulations (40 CFR 1506.6).

Stephen P. Henry,
Field Supervisor, Ventura Fish and Wildlife Office, Ventura, California.

[FR Doc. 2020-01288 Filed 1-24-20; 8:45 am]

BILLING CODE 4333-15-P